DEPARTMENT OF ENERGY

Federal Energy Regulatory Commission

[Docket Nos. ER02-1656-000, ER03-1046-000, RT01-85-000, RM01-12-000]

California Independent System Operator Corp.: Remedying Undue Discrimination through Open Access Transmission Service and Standard Electricity Market Design; Notice of Technical Conference

August 15, 2003.

Take notice that a technical conference for California ISO will be held on November 6, 2003, from approximately 10 a.m. to 4 p.m. Pacific Standard Time in the auditorium of the California Public Utilities Commission, 505 Van Ness Avenue, San Francisco, California. Members of the Commission will attend and participate in the discussions.

This conference shall be one in a series of regional technical conferences announced in the White Paper issued in this docket on April 28, 2003. The Commission intends to use these conferences to discuss with states and market participants in each region reasonable timetables for addressing wholesale market design issues discussed in the White Paper and ways in which to tailor the final rule in this proceeding to benefit customers within each region.

The Commission is inviting selected panelists to participate in this conference; it is not entertaining requests to make presentations. Further details of the conference, including the agenda, will be specified in a subsequent notice. All interested persons may attend the conference, and registration is not required. However, in-person attendees are encouraged to register on-line at http://www.ferc.gov /whats-new/registration/smd_1106-form.asp

Transcripts of the conference will be immediately available from Ace Reporting Company (202-347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703-993-3100) as soon as possible or visit the Capitol Connection Web site at http://www.capitolconnection.org and click on “FERC.”

For more information about the conference, please contact Sarah McKinley at (202) 502-8004 or sarah.mckinley@ferc.gov.

Magalie R. Salas,
Secretary.

[FR Doc. 03-21500 Filed 8-20-03; 8:45 am]

BILLING CODE 6717-01-P